FEDERAL ELECTION COMMISSION

Notice of Sunshine Act Meeting

DATE AND TIME: Tuesday, June 20, 2006 at 10 a.m.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE AND TIME: Thursday, June 22, 2006 at 10 a.m.

PLACE: 999 E Street, NW., Washington, DC (Ninth Floor).

STATUS: This meeting will be open to the public.

ITEMS TO BE DISCUSSED: Correction and Approval of Minutes.

Advisory Opinion 2006-10: EchoStar Satellite LLC, by counsel, Robert F. Bauer and Caroline P. Goodson.

Advisory Opinion 2006-14: National Restaurant Association PAC, by counsel, Carol A. Laham and D. Mark Renaud.

Advisory Opinion 2006-17: Berkeley Electric Cooperative, Inc. and its separate segregated fund, the Berkeley Electric Cooperative, Inc. Political Action Committee, by Michael Kearney, Treasurer.

Advisory Opinion 2006-18: Representative Kay Granger and the Kay Granger Campaign Fund, by counsel, Jan Witold Baran.

Routine Administrative Matters.

FOR FURTHER INFORMATION CONTACT: Mr. Robert Biersack, Press Officer. Telephone: (202) 694-1220.

Mary W. Dove,
Secretary of the Commission.

[FR Doc. 06-5462 Filed 6-13-06; 11:39 am]

BILLING CODE 6715-01-M